DEPARTMENT OF JUSTICE

Notice of Lodging of Consent Decree Under Resource Conservation and Recovery Act

Under 28 CFR 50.7, notice is hereby given that on January 25, 2006, a proposed Consent Decree in United States v. City of New York, Civil Action No. 02-9653, was lodged with the United States District Court for the Southern District of New York.

The City operates over 1,600 underground storage tanks (“USTs”), which it uses to distribute fuel for use in City-owned vehicles. The United States filed a complaint in December 2002 alleging various violations of the Resource Conservation and Recovery Act (“RCRA”), 42 U.S.C. 6991e, and its implementing regulations governing USTs regarding these tanks, including: Failure to upgrade the tanks to prevent leaks; failure to implement methods for detecting leaks; failure to investigate suspected leaks; and various related recordkeeping violations. The proposed settlement provides for the City to pay a $1.3 million civil penalty, to come into compliance with RCRA including to upgrade its tanks, and to monitor its tanks for leaks. The proposed settlement also provides for the City to implement injunctive relief, including installation of a centralized monitoring system for all USTs operated by three city agencies: the Fire Department, the Department of Transportation, and the Police Department.

The Department of Justice will receive for a period of thirty (30) days from the date of this publication comments relating to the Consent Decree. Comments should be addressed to the Assistant Attorney General, Environment and Natural Resources Division, P.O. Box 7611, U.S. Department of Justice, Washington, DC 20044-7611, and should refer to United States v. City of New York, D.J. No. 90-7-1-07807.

The Consent Decree may be examined at the Office of the United States Attorney, 86 Chambers Street, New York, New York 10007, and at the Region II Office of the U.S. Environmental Protection Agency, Region II Records Center, 290 Broadway, 17th Floor, New York, NY 10007-1866. During the public comment period, the Consent Decree also may be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury.

Ronald G. Gluck,
Assistant Section Chief, Environmental Enforcement Section, Environment and Natural Resources Division.

[FR Doc. 06-1420 Filed 2-14-06; 8:45 am]

BILLING CODE 4410-15-M